DEPARTMENT OF TRANSPORTATION

Federal Aviation Administration

RTCA Special Committee 197: Rechargeable and Starting Batteries

AGENCY: Federal Aviation Administration (FAA), DOT.

ACTION: Notice of RTCA Special Committee 197 meeting.

SUMMARY: The FAA is issuing this notice to advise the public of a meeting of RTCA Special Committee 197: Rechargeable and Starting Batteries.

DATES: The meeting will be held March 12, 2002, starting at 9 a.m.

ADDRESSES: The meeting will be held at RTCA, Inc., 1828 L Street, NW., Suite 805, Washington, DC 20036.

FOR FURTHER INFORMATION CONTACT: RTCA Secretariat, 1828 L Street, NW., Washington, DC 20036; telephone (202) 833-9339; fax (202) 833-9434; Web site http//www.rtca.org.

SUPPLEMENTARY INFORMATION: Pursuant to section 10(a)(2) of the Federal Advisory Committee Act (Pub. L. 92-463, 5 U.S.C., Appendix 2), notice is hereby given for a Special Committee 197 meeting. The agenda will include:

• March 12

• Opening Session (Welcome and Introductory Remarks, Review of Agenda)

• Review of RTCS and Federal Advisory Committee Procedures

• Review of FAA Aircraft Battery Requirements

• Review of SC-197 Terms of Reference

• Identify Goals; Develop Work Program; Examine Milestone

• Determine and Assign Tasks; Establish Interim Milestone

• Closing Session (Establish Agenda For Next Meeting, Date and Place of Next Meeting)

Attendance is open to the interested public but limited to space availability. With the approval of the chairmen, members of the public may present oral statements at the meeting. Persons wishing to present statements or obtain information should contact the person listed in the FOR FURTHER INFORMATION CONTACT section Members of the public may present a written statement to the committee at any time.

Issued in Washington, DC, on February 14, 2002.
Janice L. Peters,
FAA Special Assistant, RTCA Advisory Committee.

[FR Doc. 02-4201 Filed 2-20-02; 8:45 am]

BILLING CODE 4910-13-M